NUCLEAR REGULATORY COMMISSION

[Docket Nos. (as shown in Attachment 1) License Nos. (as shown in Attachment 1) EA-02-026]

All Operating Power Reactor Licensees; Order Modifying Licenses (Effective Immediately)

I

The licensees identified in Attachment 1 to this Order hold licenses issued by the U.S. Nuclear Regulatory Commission (NRC or Commission) authorizing operation of nuclear power plants in accordance with the Atomic Energy Act of 1954 and 10 CFR part 50. Commission regulations at 10 CFR 50.54(p)(1) require these licensees to maintain safeguards contingency plan procedures in accordance with 10 CFR part 73, Appendix C. Specific safeguards requirements are contained in 10 CFR 73.55.

II

On September 11, 2001, terrorists simultaneously attacked targets in New York, NY, and Washington, DC, utilizing large commercial aircraft as weapons. In response to the attacks and intelligence information subsequently obtained, the Commission issued a number of Safeguards and Threat Advisories to its licensees in order to strengthen licensees' capabilities and readiness to respond to a potential attack on a nuclear facility. The Commission has also communicated with other Federal, State and local government agencies and industry representatives to discuss and evaluate the generalized high-level threat environment in order to assess the adequacy of security measures at licensed facilities. In addition, the Commission has commenced a comprehensive review of its safeguards and security programs and requirements.

As a result of its initial consideration of current safeguards and security plan requirements, as well as a review of information provided by the intelligence community, the Commission has determined that certain compensatory measures should be required to be implemented by licensees as prudent, interim measures, to address the generalized high-level threat environment in a consistent manner throughout the nuclear reactor community. Therefore, the Commission is imposing requirements, as set forth in Attachment 2 ¹ of this Order, on all operating power reactor licensees. These interim requirements, which supplement existing regulatory requirements, will provide the Commission with reasonable assurance that the public health and safety and common defense and security continue to be adequately protected in the current generalized high-level threat environment. These requirements will remain in effect pending notification from the Commission that a significant change in the threat environment occurs, or until the Commission determines that other changes are needed following a comprehensive re-evaluation of current safeguards and security programs.

¹ Attachment 2 contains safeguards information and will not be released to the public.

The Commission recognizes that licensees may have already initiated many of the measures set forth in Attachment 2 to this Order in response to previously issued advisories or on their own. It is also recognized that some measures may not be possible or necessary at some sites, or may need to be tailored to specifically accommodate the specific circumstances existing at the licensee's facility to achieve the intended objectives and avoid any unforeseen effect on safe operation.

Although the licensees' responses to the Safeguards and Threat Advisories have been adequate to provide reasonable assurance of adequate protection of public health and safety, the Commission believes that the responses must be supplemented because the generalized high-level threat environment has persisted longer than expected, and as a result, it is appropriate to require certain security measures so that they are maintained within the established regulatory framework. In order to provide assurance that licensees are implementing prudent measures to achieve a consistent level of protection to address the current, generalized high-level threat environment, all licenses identified in Attachment 1 to this Order shall be modified to include the requirements identified in Attachment 2 to this Order. In addition, pursuant to 10 CFR 2.202, I find that in the circumstances described above, the public health, safety and interest require that this Order be immediately effective.

III

Accordingly, pursuant to sections 103, 104, 161b, 161i, 161o, 182 and 186 of the Atomic Energy Act of 1954, as amended, and the Commission's regulations in 10 CFR 2.202 and 10 CFR parts 50 and 73, it is hereby ordered effective immediately, that all licenses identified in attachment 1 to this order are modified as follows:

A. All Licensees shall, notwithstanding the provisions of any Commission regulation or license to the contrary, comply with the requirements described in Attachment 2 to this Order except to the extent that a more stringent requirement is set forth in the licensee's security plan. The Licensees shall immediately start implementation of the requirements in Attachment 2 to the Order and shall complete implementation no later than August 31, 2002.

B. 1. All Licensees shall, within twenty (20) days of the date of this Order, notify the Commission, (1) if they are unable to comply with any of the requirements described in Attachment 2, (2) if compliance with any of the requirements is unnecessary in their specific circumstances, or (3) if implementation of any of the requirements would cause the Licensee to be in violation of the provisions of any Commission regulation or the facility license. The notification shall provide the Licensees' justification for seeking relief from or variation of any specific requirement.

2. Any Licensee that considers that implementation of any of the requirements described in Attachment 2 to this Order would adversely impact safe operation of the facility must notify the Commission, within twenty (20) days of this Order, of the adverse safety impact, the basis for its determination that the requirement has an adverse safety impact, and either a proposal for achieving the same objectives specified in the Attachment 2 requirement in question, or a schedule for modifying the facility to address the adverse safety condition. If neither approach is appropriate, the Licensee must supplement its response to Condition B1 of this Order to identify the condition as a requirement with which it cannot comply, with attendant justifications as required in Condition B1.

C. 1. All Licensees shall, within twenty (20) days of the date of this Order, submit to the Commission, a schedule for achieving compliance with each requirement described in Attachment 2.

2. All Licensees shall report to the Commission, when they have achieved full compliance with the requirements described in Attachment 2.

D. Notwithstanding the provisions of 10 CFR 50.54(p), all measures implemented or actions taken in response to this Order shall be maintained pending notification from the Commission that a significant change in the threat environment occurs, or until the Commission determines that other changes are needed following a comprehensive re-evaluation of current safeguards and security programs.

Licensee responses to Conditions B.1, B.2, C.1, and C.2, above shall be submitted in accordance with 10 CFR 50.4. In addition, Licensee submittals that contain Safeguards Information shall be properly marked and handled in accordance with 10 CFR 73.21.

The Director, Office of Nuclear Reactor Regulation may, in writing, relax or rescind any of the above conditions upon demonstration by the Licensee of good cause.

IV

In accordance with 10 CFR 2.202, the Licensee must, and any other person adversely affected by this Order may, submit an answer to this Order, and may request a hearing on this Order, within 20 days of the date of this Order. Where good cause is shown, consideration will be given to extending the time to request a hearing. A request for extension of time in which to submit an answer or request a hearing must be made in writing to the Director, Office of Nuclear Reactor Regulation, U.S. Nuclear Regulatory Commission, Washington, DC 20555, and include a statement of good cause for the extension. The answer may consent to this Order. Unless the answer consents to this Order, the answer shall, in writing and under oath or affirmation, specifically set forth the matters of fact and law on which the Licensee or other person adversely affected relies and the reasons as to why the Order should not have been issued. Any answer or request for a hearing shall be submitted to the Secretary, Office of the Secretary of the Commission, U.S. Nuclear Regulatory Commission, ATTN: Rulemakings and Adjudications Staff, Washington, DC 20555. Copies also shall be sent to the Director, Office of Nuclear Reactor Regulation, U.S. Nuclear Regulatory Commission, Washington, DC 20555, to the Assistant General Counsel for Materials Litigation and Enforcement at the same address, to the Regional Administrator for NRC Region I, II, III, or IV, as appropriate for the specific plant, and to the Licensee if the answer or hearing request is by a person other than the Licensee. If a person other than the Licensee requests a hearing, that person shall set forth with particularity the manner in which his interest is adversely affected by this Order and shall address the criteria set forth in 10 CFR 2.714(d). If a hearing is requested by the Licensee or a person whose interest is adversely affected, the Commission will issue an Order designating the time and place of any hearing. If a hearing is held, the issue to be considered at such hearing shall be whether this Order should be sustained.

Pursuant to 10 CFR 2.202(c)(2)(i), the Licensee, may, in addition to demanding a hearing, at the time the answer is filed or sooner, move the presiding officer to set aside the immediate effectiveness of the Order on the ground that the Order, including the need for immediate effectiveness, is not based on adequate evidence but on mere suspicion, unfounded allegations, or error.

In the absence of any request for hearing, or written approval of an extension of time in which to request a hearing, the provisions specified in Section III above shall be final twenty (20) days from the date of this Order without further order or proceedings. If an extension of time for requesting a hearing has been approved, the provisions specified in Section III shall be final when the extension expires if a hearing request has not been received. An answer or a request for hearing shall not stay the immediate effectiveness of this order.

Dated this 25th day of February 2002.
For the Nuclear Regulatory Commission.
Samuel J. Collins,
Director, Office of Nuclear Reactor Regulation.

Region I Operating Power Plants—Senior Executive Contacts

Robert F. Saunders

President and Chief Nuclear Officer

Beaver Valley Power Station, Units 1 & 2

Docket Nos. 50-334 & 50-412

License Nos. DPR-66 & NPF-73

FirstEnergy Nuclear Operating Company

FirstEnergy Corporation

76 South Main Street

Akron, OH 44308

Charles Cruse

Vice President—Nuclear Energy

Calvert Cliffs Nuclear Power Plant Units 1 & 2

Docket Nos. 50-317 & 50-318

License Nos. DPR-53 & DPR-69

Constellation Energy Group, Inc.

1650 Calvert Cliffs Pkwy

Office 2-OTF

Lusby, MD 20657

Harold W. Keiser

Chief Nuclear Officer & President

Hope Creek Generating Station

Docket No. 50-354

License No. NPF-57

PSEG Nuclear LLC—N09

Foot of Buttonwood Ave

Hancocks Bridge, NJ 08038

Michael Kansler

Senior Vice President and Chief Operating Officer

Indian Point Nuclear Generating Station, Unit Nos. 2 & 3

Docket Nos. 50-247 & 50-286

License Nos. DPR-26 & DPR-64

Entergy Nuclear Operations, Inc.

440 Hamilton Avenue

White Plains, NY 10601

Michael Kansler

Senior Vice President and Chief Operating Officer

James A. Fitzpatrick Nuclear Power Plant

Docket No. 50-333

License No. DPR-59

Entergy Nuclear Operations, Inc.

440 Hamilton Avenue

White Plains, NY 10601

Oliver D. Kingsley, Jr.

President and Chief Nuclear Officer

Limerick Generating Station, Units 1 & 2

Docket Nos. 50-352 & 50-353

License Nos. NPF-39 & NPF-85

Exelon Generation Company, LLC

4300 Winfield Road

Warrenville, IL 60555

David Christian

Senior Vice President—Nuclear Operations and Chief Nuclear Officer

Millstone Nuclear Power Station, Unit Nos. 2 & 3

License Nos. DPR-65 & NPF-49

Docket Nos. 50-336 & 50-423

Dominion Nuclear Energy

Innsbrook Technical Center—2SW

5000 Dominion Boulevard

Glenn Allen, VA 23060

Raymond Wenderlich

Senior Constellation Nuclear Officer

Nine Mile Point Nuclear Station, Unit Nos. 1 & 2

Docket Nos. 50-220 & 50-410

License Nos. DPR-63 & NPF-69

1997 Annapolis Exchange Parkway

Annapolis, MD 21401

Oliver D. Kingsley, Jr.

President and Chief Nuclear Officer

Oyster Creek Nuclear Generating Station

Docket No. 50-219

License No. DPR-16

Exelon Generation Company, LLC

4300 Winfield Road

Warrenville, IL 60555

Oliver D. Kingsley, Jr.

President and Chief Nuclear Officer

Peach Bottom Atomic Power Station, Units 2 & 3

Docket Nos. 50-277 & 50-278

License Nos. DPR-44 & DPR-56

Exelon Generation Company

4300 Winfield Road

Warrenville, IL 60555

Michael Kansler

Senior Vice President and Chief Operating Officer

Pilgrim Nuclear Power Station Unit No. 1

Docket No. 50-293

License No. DPR-35

Entergy Nuclear Operations, Inc.

440 Hamilton Avenue

White Plains, NY 10601

Paul C. Wilkens

Sr. Vice President Energy Operations

R. E. Ginna Nuclear Power Plant

Docket No. 50-244

License No. DPR-18

Rochester Gas & Electric Corporation

89 East Avenue

Rochester, NY 14649

Harold W. Keiser

Chief Nuclear Officer & President

Salem Nuclear Generating Station, Units 1 & 2

Docket Nos. 50-272 & 50-311

License Nos. DPR-70 & DPR-75

PSEG Nuclear LLC-N09

Foot of Buttonwood Ave

Hancocks Bridge, NJ 08038

Ted C. Feigenbaum

Executive Vice President & Chief Nuclear Officer

Seabrook, Unit 1

Docket No. 50-443

License No. NPF-86

North Atlantic Energy Service Corp.

c/o Mr. James M. Peschel

Rt. 1 Lafayette Rd

Seabrook, NH 03874

Robert G. Byram

Senior Vice President & Chief Nuclear Officer

Susquehanna Steam Electric Station, Units 1 & 2

Docket Nos. 50-387 & 50-388

License Nos. NPF-14 & NPF-22

PPL Susquehanna, LLC

2 North Ninth Street

Allentown, PA 18101

Oliver D. Kingsley, Jr.

President and Chief Nuclear Officer

Three Mile Island Nuclear Station, Unit 1

Docket No. 50-289

License No. DPR-50

Exelon Generation Company, LLC

4300 Winfield Road

Warrenville, IL 60555

Ross P. Barkhurst

President and Chief Executive Officer

Vermont Yankee Nuclear Power Station

Docket No. 50-271

License No. DPR-28

Vermont Yankee Nuclear Power Corporation

185 Old Ferry Road

Brattleboro, VT 05302-7002

Region II Operating Power Plants—Senior Executive Contacts

John A. Scalice

Chief Nuclear Officer and Executive Vice President

Browns Ferry Nuclear Plant, Units 1, 2 & 3

Docket Nos. 50-259, 50-260 & 50-296

License Nos. DPR-33, DPR-52 & DPR-68

Tennessee Valley Authority

6A Lookout Place 1101 Market Street

Chattanooga, TN 37402-2801

C. S. (Scotty) Hinnant

Senior Vice President and Chief Nuclear Officer

Brunswick Steam Electric Plant Units 1 & 2

Docket Nos. 50-325 & 50-324

License Nos. DPR-71 & DPR-62

Progress Energy, Inc.

410 South Wilmington St.

Raleigh, NC 27601

Michael S. Tuckman

Executive Vice President Nuclear Generation

Catawba Nuclear Station, Units 1 & 2

Docket Nos. 50-413 & 50-414

License Nos. NPF-52 & NPF-62

Duke Energy Corporation

526 South Church St

Mail Code EC 07 H

Charlotte NC 28242

C.S. (Scotty) Hinnant

Senior Vice President and Chief Nuclear Officer

Crystal River Unit 3 Nuclear Generating Plant

Docket No. 50-302

License No. DPR-72

Progress Energy, Inc.

410 South Wilmington St.

Raleigh, NC 27601

W.G. Hairston, III

President and Chief Executive Officer

Edwin I. Hatch Nuclear Plant Units 1 & 2

Docket Nos: 50-321 & 50-366

License Nos. DPR-57 & NPF-5

Southern Nuclear Operating Company, Inc.

40 Inverness Center Parkway

Birmingham, AL 35242

C. S. (Scotty) Hinnant

Senior Vice President and Chief Nuclear Officer

H.B. Robinson Steam Electric Plant, Unit No. 2

Docket No. 50-261

License No. DPR-23

Progress Energy, Inc.

410 South Wilmington St.

Raleigh, NC 27601

W.G. Hairston, III

President and Chief Executive Officer

Joseph M. Farley Nuclear Plant, Units 1 & 2

Docket Nos. 50-348 & 50-364

License Nos. NPF-2 & NPF-8

Southern Nuclear Operating Company, Inc.

40 Inverness Center Parkway

Birmingham, AL 35242

David Christian

Sr. Vice President Nuclear and Chief Nuclear Officer

North Anna Power Station, Units 1 & 2

Docket Nos. 50-338 & 50-339

License Nos. NPF-4 & NPF-7

Virginia Electric & Power Company

5000 Dominion Blvd.

Glen Allen, VA 23060-6711

Michael S. Tuckman

Executive Vice President Nuclear Generation

Oconee Nuclear Station, Units 1, 2 & 3

Docket Nos. 50-269, 50-270 & 50-287

License Nos. DPR-38, DPR-47 & DPR-55

Duke Energy Corporation

526 South Church St

Mail Code EC 07 H

Charlotte NC 28242

John A. Scalice

Chief Nuclear Officer and Executive Vice President

Sequoyah Nuclear Plant, Units 1 & 2

Docket Nos. 50-327 & 50-328

License Nos. DPR-77 & DPR-79

Tennessee Valley Authority

6A Lookout Place

1101 Market Street

Chattanooga, TN 37402-2801

C.S. (Scotty) Hinnant

Senior Vice President and Chief Nuclear Officer

Shearon Harris Nuclear Power Plant, Unit 1

Docket No. 50-400

License No. NPF-63

Progress Energy, Inc.

410 South Wilmington St.

Raleigh, NC 27601

J. A. Stall

Senior VP—Nuclear and Chief Nuclear Officer

St. Lucie Plant Units 1 & 2

Docket Nos. 50-335 & 50-389

License Nos. DPR-67 & NPF-16

Florida Power & Light Co.

700 Universe Boulevard

Juno Beach, FL 33408-0420

David Christian

Sr. Vice President Nuclear and Chief Nuclear Officer

Surry Power Station, Unit 1 & 2

Docket Nos. 50-280 & 50-281

License Nos. DPR-32 & DPR-37

Virginia Electric & Power Company

5000 Dominion Blvd.

Glen Allen, VA 23060-7611

J. A. Stall

Senior VP—Nuclear and Chief Nuclear Officer

Turkey Point Units 3 & 4

Docket Nos. 50-250 & 50-251

License Nos. DPR-31 & DPR-41

Florida Power & Light Co.

700 Universe Boulevard

Juno Beach, FL 33408-0420

Steve Byrne

Senior Vice President—Nuclear Operations

Virgil C. Summer Nuclear Station, Unit 1

Docket No. 50-395

License No. NPF-12

South Carolina Electric & Gas Company

Braham Blvd. at Hwy 215

Jenkinsville, SC 29065

W.G. Hairston, III

President and Chief Executive Officer

Vogtle Electric Generating Plant, Units 1 & 2

Docket Nos. 50-424 & 50-425

License Nos. NPF-68 & NPF-81

Southern Nuclear Operating Company, Inc.

40 Inverness Center Parkway

Birmingham, AL 35242

John A. Scalice

Chief Nuclear Officer & Executive Vice President

Watts Bar Nuclear Plant, Unit 1

Docket No. 50-390

License No. NPF-90

TVA, 6A Lookout Place

1101 Market Street

Chattanooga, TN 37402-2801

Michael S. Tuckman

Executive Vice President Nuclear Generation

William B. McGuire Nuclear Station Units 1 & 2

Docket Nos. 50-369 & 50-370

License Nos. NPF-9 & NPF-17

Duke Energy Corporation

526 South Church St

Mail Code EC 07 H

Charlotte NC 28242

Region III Operating Power Plants—Senior Executive Contacts

Oliver D. Kingsley, Jr.

President and Chief Nuclear Officer

Byron Station, Units 1 & 2/Braidwood Station, Units 1 & 2

Docket Nos. 50-454 & 50-455 (Byron), 50-456 & 50-457 (Braidwood)

License Nos. NPF-37 & NPF-66 (Byron), NPF-72 & NPF-77 (Braidwood)

Exelon Generation Company, LLC 4300 Winfield Road

Warrenville, IL 60555

Oliver D. Kingsley, Jr.

Chief Nuclear Officer

Clinton Power Station, Unit 1

Docket No. 50-461

License No. NPF-62

AmerGen Energy Company, LLC

Exelon Generation Company, LLC

4300 Winfield Road

Warrenville, IL 60555

Robert F. Saunders

President and Chief Nuclear Officer

Davis-Besse Nuclear Power Station, Unit 1

Docket No. 50-346

License No. NPF-3

FirstEnergy Nuclear Operating Company

FirstEnergy Corporation

76 South Main Street

Akron, OH 44308

A. Christopher Bakken

Senior Vice President and Chief Nuclear Officer

Donald C. Cook Nuclear Plant, Units 1 & 2

Docket Nos. 50-315 & 50-316

License Nos. DPR-58 & DPR-74

Indiana Michigan Power Company

Nuclear Generation Group

500 Circle Drive

Buchanan, MI 49107

Oliver D. Kingsley, Jr.

President and Chief Nuclear Officer

Dresden Nuclear Power Station, Units 2 & 3

Docket Nos. 50-237 & 50-249

License Nos. DPR-19 & DPR-25

Exelon Generation Company, LLC

4300 Winfield Road

Warrenville, IL 60555

Michael B. Sellman

President and Chief Executive Officer

Duane Arnold Energy Center

Docket No. 50-331

License No. DPR-49

Nuclear Management Company, LLC

700 First Street

Hudson WI 54016

Douglas R. Gibson

Executive Vice President, Power Generation and Chief Nuclear Officer

Fermi, Unit 2

Docket No. 50-341

License No. NPF-43

Detroit Edison Company

2000 Second Avenue

Detroit, MI 48226

Michael B. Sellman

Chief Executive Officer

Kewaunee Nuclear Power Plant

Docket No. 50-305

License No. DPR-43

Nuclear Management Company, LLC

700 First Street

Hudson WI 54016

Oliver D. Kingsley, Jr.

President and Chief Nuclear Officer

LaSalle County Station, Units 1 & 2

Docket Nos. 50-373 & 50-374

License Nos. NPF-11 & NPF-18

Exelon Generation Company, LLC

4300 Winfield Road

Warrenville, IL 60555

Michael B. Sellman

President and CEO

Monticello Nuclear Generating Plant

Docket No. 50-263

License No. DPR-22

Nuclear Management Company, LLC

700 First Street

Hudson, WI 54016

Michael B. Sellman

President and CEO

Palisades Plant

Docket No. 50-255

License No. DPR-20

Nuclear Management Company, LLC

700 First Street

Hudson, WI 54016

Robert F. Saunders

President and Chief Nuclear Officer

Perry Nuclear Power Plant, Unit 1

Docket No. 50-440

License No. NPF-58

FirstEnergy Nuclear Operating Company

FirstEnergy Corporation

76 South Main Street

Akron, OH 44308

Michael B. Sellman

President and CEO

Point Beach Nuclear Plant, Units 1 & 2

Docket Nos. 50-266 & 50-301

License Nos. DPR-24 & DPR-27

Nuclear Management Company, LLC

700 First Street

Hudson, WI 54016

Michael B. Sellman

President and CEO

Prairie Island Nuclear Generating Plant, Units 1 & 2

Docket Nos. 50-282 & 50-306

License Nos. DPR-42 & DPR-60

Nuclear Management Company, LLC

700 First Street

Hudson, WI 54016

Oliver D. Kingsley, Jr.

President and Chief Nuclear Officer

Quad Cities Nuclear Power Station, Units 1 & 2

Docket Nos. 50-254 & 50-265

License Nos. DPR-29 & DPR-30

Exelon Generation Company, LLC

4300 Winfield Road

Warrenville, IL 60555

Region IV Operating Power Plants—Senior Executive Contacts

Gary J. Taylor

Senior Vice President and Chief Operating Officer

Arkansas Nuclear One—Units 1 & 2

Docket Nos: 50-313 & 50-368

License Nos. DPR-51 & NPF-6

Entergy Operations Inc.

1340 Echelon Parkway

Jackson, MS 39213

G. L. Randolph

Sr. Vice President—Generation and Chief Nuclear Officer

Callaway Plant, Unit 1

Docket No. 50-483

License No. NPF-30

AmerenUE Corporation

Callaway Nuclear Plant

Junction Hwy CC & Hwy O

Portland, MO 65067

J. V. Parrish

Chief Executive Officer

Columbia Generating Station

Docket No. 50-397

License No. NPF-21

Energy Northwest

MD 1023

Snake River Warehouse

North Power Plant Loop

Richland, WA 99352

C. Lance Terry

Senior Vice President and Principal Nuclear Officer

Comanche Peak Steam Electric Station, Units 1 & 2

Docket Nos. 50-445 & 50-446

License Nos. NPF-87 & NPF-89

TXU Management Company LCC

Managing Partner for TXU Generation Company LP

FM 56

5 Miles North of Glen Rose

Glen Rose, Texas 76043

David L. Wilson

Vice President of Nuclear

Cooper Nuclear Station

Docket No. 50-298

License No. DPR-46

Nebraska Public Power District

2 Miles South of Brownsville

Brownsville, NE 68321

Gregory M. Rueger

Senior Vice President Generation and Chief Nuclear Officer

Diablo Canyon Nuclear Power Plant Units 1 & 2

Docket Nos. 50-275 & 50-323

License Nos. DPR-80 & DPR-82

Pacific Gas and Electric Company

77 Beale Street, 32nd Floor

San Francisco, California 94105

W. Gary Gates

Vice President for Nuclear Operations

Fort Calhoun Station, Unit 1

Docket No. 50-285

License No. DPR-40

Omaha Public Power Dist.

444 South 16th Street Mall

Omaha, NE 68102-2247

Gary J. Taylor

Senior Vice President and Chief Operating Officer

Grand Gulf Nuclear Station, Unit 1

Docket No. 50-416

License No. NPF-29

Entergy Operations, Inc.

1340 Echelon Parkway

Jackson, MS 39213

James M. Levine

Executive Vice President and Chief Operating Officer

Palo Verde Nuclear Generating Station, Units 1, 2 & 3

Docket Nos. 50-528, 50-529 & 50-530

License Nos. NPF-41, NPF-51 & NPF-74

Arizona Public Service Company

400 North 5th Street, MS 9046

Phoenix, AZ 85004

Gary J. Taylor

Senior Vice President and Chief Operating Officer

River Bend Station

Docket No. 50-458

License No. NPF-47

Entergy Operations Inc.

1340 Echelon Parkway

Jackson, MS 39213

Harold B. Ray

Executive Vice President

San Onofre Nuclear Station, Units 2 & 3

Docket Nos. 50-361 & 50-362

License Nos. NPF-10 & NPF-15

Southern California Edison Company

8631 Rush Street

Rosemead, CA 91770

William T. Cottle

President and Chief Executive Officer

South Texas Project, Units 1 & 2

Docket Nos. 50-498 & 50-499

License Nos. NPF-76 & NPF-80

STP Nuclear Operating Company

South Texas Project

Electric Generating Station

8 Miles west of Wadsworth, on FM 521

Wadsworth, TX 77483

Gary J. Taylor

Senior Vice President and Chief Operating Officer

Waterford Steam Electric Generating Station, Unit 3

Docket No. 50-382

License No. NPF-38

Entergy Operations, Inc.

1340 Echelon Parkway

Jackson, MS 39213

Otto L. Maynard

President and Chief Executive Officer

Wolf Creek Generating Station, Unit 1

Docket No. 50-482

License No. NPF-42

Wolf Creek Nuclear Operating Corporation

1550 Oxon Lane NE.

Burlington, KS 66839

[FR Doc. 02-5046 Filed 3-1-02; 8:45 am]

BILLING CODE 7590-01-P